DEPARTMENT OF JUSTICE

Lodging of Consent Decree Under the Clean Air Act, Comprehensive Environmental Response, Compensation, and Liability Act, and Emergency Planning and Community Right-To-Know Act

Notice is hereby given that on February 10, 2009, a proposed Consent Decree in United States, et al v. Frontier Refining Inc. and the Frontier El Dorado Refining Company, Civil Action No. Civil Action No. 09-CV-1032-WEB-KMH was lodged with the United States District Court for the District of Kansas.

The Consent Decree in this Clean Air Act enforcement action against Frontier Refining Inc. and the Frontier El Dorado Refining Company (collectively “Frontier”) resolves allegations by the Environmental Protection Agency, asserted in a complaint filed together with the Consent Decree, under Sections 113(b) and 167 of the Clean Air Act, 42 U.S.C. 7413(b) and, 7477 Section 109(c) of the Comprehensive Environmental Response, Compensation, and Liability Act, 42 U.S.C. 9609(c), and Section 325(b) of the Emergency Planning and Community Right-to-Know Act, 42 U.S.C. 11045(b) for alleged environmental violations at Frontier Refining Inc.'s petroleum refinery located in Cheyenne, Wyoming, and Frontier El Dorado Refining Company's petroleum refinery located in El Dorado, Kansas. The proposed Consent Decree also resolves separate but related state law claims brought by Wyoming and Kansas who have intervened in this matter. This is one of numerous national settlements reached as part of the EPA's CAA Petroleum Refinery Initiative. Consistent with the objectives of EPA's national initiative, in addition to the payment of civil penalties, the settlement will require Frontier to perform injunctive relief to reduce emissions of nitrogen oxide, sulfur dioxide, particulate matter, and carbon monoxide at the covered refineries and to implement several Supplemental Environmental Projects. In addition, to resolve certain alleged Risk Management Program violations of Section 112(r)(7) of the Clean Air Act, 42 U.S.C. 7412(r)(7), the Frontier El Dorado Refining Company will pay an additional civil penalty, perform a Supplemental Environmental Project and implement injunctive to correct program deficiencies.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States, et al v. Frontier Refining Inc. and the Frontier El Dorado Refining Company, Civil Action No. Civil Action No. 09-CV-1032-WEB-KMH, D.J. Ref. 90-5-2-1-08660.

The Consent Decree may be examined at: the Office Of the United States Attorney for the District of Wyoming, 2120 Capitol Avenue—4th Floor, Cheyenne, Wyoming 82001; the Office of United States Attorney for the District of Kansas, 500 State Street Suite 360, Kansas City, Kansas 66101, USAO File Number 2008V00801; U.S. EPA Region 8, 1595 Wynkoop Street, Denver, Colorado 80202-1129; and U.S. EPA Region 7, 901 North 5th Street, Kansas City, Kansas 66101. During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, exclusive of exhibits and defendants' signatures, please enclose a check in the amount of $45.75 (25¢ per page reproduction cost) payable to the U.S. Treasury or, if by e-mail or fax, forward a check in that amount to the Consent Decree Library at the stated address. If requesting a copy with exhibits, enclose a check in the amount of $51.00.

Robert Brook,
Assistant Chief, Environmental Enforcement Section,Environment and Natural Resources Division.

[FR Doc. E9-3214 Filed 2-13-09; 8:45 am]

BILLING CODE 4410-15-P